DEPARTMENT OF COMMERCE

Census Bureau

Proposed Information Collection; Comment Request; 2007 Economic Census Covering the Wholesale Trade Sector

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before April 3, 2006.

ADDRESSES: Direct all written comments to Diana Hynek, Departmental Paperwork Clearance Officer, Department of Commerce, Room 6625, 14th and Constitution Avenue, NW., Washington, DC 20230 (or via the Internet at DHynek@doc.gov).

FOR FURTHER INFORMATION CONTACT: Requests for additional information or copies of the information collection instrument(s) and instructions should be directed to Yvonne Wade, U.S. Census Bureau, Room 2682, Building 3, Washington, DC 20233-0001, (301) 763-2661 (or via the Internet at mywade@census.gov).

SUPPLEMENTARY INFORMATION:

I. Abstract

The economic census, conducted under authority of Title 13, United States Code (USC), is the primary source of facts about the structure and functioning of the Nation's economy. Economic statistics serve as part of the framework for the national accounts and provide essential information for government, business, and the general public. Economic data are the Census Bureau's primary program commitment during nondecennial census years. The 2007 Economic Census covering the Wholesale Trade sector (as defined by the North American Industry Classification System (NAICS)) will measure the economic activity of more than 450,000 establishments. The information collected will produce basic statistics by kind of business on the number of establishments, sales, payroll, and employment. It will also yield a variety of subject statistics, including sales by product line, sales by class of customer, and other industry-specific measures. Primary strategies for reducing burden in Census Bureau economic data collections are to increase reporting through standardized questionnaires and broader electronic data collection methods.

II. Method of Collection

Mail Selection Procedures: Establishments in the Wholesale Trade sector of the economic census will be selected from the Census Bureau's Business Register for a mail canvass. To be eligible for selection, an establishment will be required to satisfy the following conditions: (i) It must be classified in the Wholesale Trade sector; (ii) it must be an active operating establishment of a multi-establishment firm (i.e., a firm that operates at more than one physical location); and (iii) it must be located in one of the 50 states or the District of Columbia. Mail selection procedures will distinguish the following groups of establishments:

1. Establishments of Multi-Establishment Firms

All active operating establishments of multi-establishment firms will be included in the mail component of the potential respondent universe. We estimate that the 2007 Economic Census mail canvass for the Wholesale Trade sector will include approximately 126,000 establishments of multi-establishment firms.

2. Single-Establishment Firms With Payroll

All single-establishment firms having annualized payroll (from Federal administrative records) will be included in the mail component of the potential respondent universe. We estimate that the 2007 Economic Census mail canvass for the Wholesale Trade sector will include approximately 324,000 establishments of single-establishment firms.

III. Data

OMB Number: None.

Form Number: The 42 standard forms and ownership or control flier used to collect information from businesses in this sector of the Economic Census are tailored to specific business practices and are too numerous to list separately in this notice. Requests for information on the proposed content of the forms should be directed to M. Yvonne Wade, U.S. Census Bureau, Room 2682, Building 3, Washington, DC 20233-0001, (301) 763-2661 (or via the Internet at mywade@census.gov).

Type of Review: Regular review.

Affected Public: State or local government, business or other for-profit organizations, and not-for-profit institutions.

Estimated Number of Respondents: 450,000.

Estimated Time per Response: 1 hour and 30 minutes.

Estimated Total Annual Burden Hours: 675,000.

Estimated Total Annual Cost: $16,652,250.

Respondent's Obligation: Mandatory.

Legal Authority: Title 13, U.S.C., Sections 131 and 224.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 26, 2006.
Gwellnar Banks,
Management Analyst, Office of the Chief Information Officer.

[FR Doc. E6-1296 Filed 1-31-06; 8:45 am]

BILLING CODE 3510-07-P